POSTAL REGULATORY COMMISSION

[Docket No. C2024-13; Presiding Officer's Ruling No. 19]

Scheduling of Settlement Conference and Oral Argument

AGENCY: Postal Regulatory Commission.

ACTION: Notice.

SUMMARY: The Commission is providing notice that a settlement conference and oral argument are being scheduled.

DATES: Live Settlement Videoconference: July 22, 2025, at 11 a.m., eastern daylight time, virtual. Live Oral Argument Videoconference: July 24, 2025, at 11 a.m., eastern daylight time, virtual.

FOR FURTHER INFORMATION CONTACT: David A. Trissell, General Counsel, at 202-789-6820.

SUPPLEMENTARY INFORMATION:

I. Background and Analysis

II. Ruling

I. Background and Analysis

After Complainants filed a motion requesting oral argument, the Presiding Officer has determined that the factors listed in 39 CFR 3010.332 allow for—and indeed, favor—holding oral argument.¹ The Presiding Officer will conduct a settlement conference between the parties on Tuesday, July 22, 2025, at 11 a.m. Oral arguments will occur on Thursday, July 24, 2025, at 11 a.m.

¹ Motion for Oral Argument etc., July 7, 2025 (Motion).

II. Ruling

1. Complainants' Motion for Oral Argument etc., filed July 7, 2025, is granted.

2. A settlement videoconference will be conducted before the Presiding Officer on Tuesday, July 22, 2025, at 11 a.m.

3. Oral argument will be conducted before the Presiding Officer on Thursday, July 24, 2025, at 11 a.m.

4. The Secretary shall arrange for the publication of this ruling (or abstract thereof) in the Federal Register.

Erica A. Barker,
Secretary.

[FR Doc. 2025-13538 Filed 7-17-25; 8:45 am]

BILLING CODE 7710-FW-P